DEPARTMENT OF LABOR

Employment and Training Administration

[TA-W-64,126]

Netshape Technologies, Inc.; Falls Creek, PA; Notice of Termination of Investigation

Pursuant to Section 221 of the Trade Act of 1974, as amended, an investigation was initiated on September 29, 2008 in response to a worker petition filed by a company official on behalf of workers of Netshape Technologies, Inc., Falls Creek, Pennsylvania.

The petitioner has requested that the petition be withdrawn. Consequently, the investigation has been terminated.

Signed at Washington, DC, this 23rd day of October 2008.
Linda G. Poole,
Certifying Officer, Division of Trade Adjustment Assistance.

[FR Doc. E8-26054 Filed 10-31-08; 8:45 am]

BILLING CODE 4510-FN-P